DEPARTMENT OF THE TREASURY

Submission for OMB Review; Comment Request

March 3, 2011.

The Department of the Treasury will submit the following public information collection requirements to OMB for review and clearance under the Paperwork Reduction Act of 1995, Public Law 104-13 on or after the date of publication of this notice. A copy of the submissions may be obtained by contacting the Treasury Department Office Clearance Officers listed. Comments regarding these information collections should be addressed to the OMB reviewer listed and to the Treasury PRA Clearance Officer, Department of the Treasury, 1750 Pennsylvania Avenue, NW., Suite 11020, Washington, DC 20220.

Dates: Written comments should be received on or before April 8, 2011 to be assured of consideration.

Departmental Offices (DO)

Summary: As part of a Federal Government-wide effort to streamline the process to seek feedback from the public on service delivery, the Department of the Treasury has submitted a Generic Information Collection Request (Generic ICR): “Generic Clearance for the Collection of Qualitative Feedback on Agency Service Delivery” to OMB for approval under the Paperwork Reduction Act (PRA) (44 U.S.C. 3501 et seq.). Treasury is requesting clearance for eight separate OMB Control Numbers for eight bureaus and offices within the Department. Each clearance will have the same title and purpose, but will be available for use by each bureau under their control number and burden estimate, as detailed below.

Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

Total Burden Estimate for the Department of the Treasury

Affected Public: Individuals and Households, Businesses and Organizations, State, Local or Tribal Government.

Average Expected Annual Number of activities: 120.

Respondents: 120,000.

Annual responses: 120,000.

Frequency of Response: Once per request.

Average minutes per response: 60.

Burden hours: 120,000.

Breakdown of Separate Agency Clearances and Burden Estimates:

Treasury Departmental Offices 1505-xxxx

Average Expected Annual Number of activities: 40.

Respondents: 40,000.

Annual responses: 40,000.

Frequency of Response: Once per request.

Average minutes per response: 60.

Burden hours: 40,000.

Financial Crimes Enforcement Network: 1506-xxxx

Average Expected Annual Number of activities: 10.

Respondents: 10,000.

Annual responses: 10,000.

Frequency of Response: Once per request.

Average minutes per response: 60.

Burden hours: 10,000.

United States Mint: 1525-xxxx

Average Expected Annual Number of activities: 10.

Respondents: 10,000.

Annual responses: 10,000.

Frequency of Response: Once per request.

Average minutes per response: 60.

Burden hours: 10,000.

Community Development Financial Institutions Fund: 1559-xxxx

Average Expected Annual Number of activities: 10.

Respondents: 10,000.

Annual responses: 10,000.

Frequency of Response: Once per request.

Average minutes per response: 60.

Burden hours: 10,000.

Financial Management Service: 1510-xxxx

Average Expected Annual Number of activities: 10.

Respondents: 10,000.

Annual responses: 10,000.

Frequency of Response: Once per request.

Average minutes per response: 60.

Burden hours: 10,000.

Alcohol and Tobacco Tax and Trade Bureau: 1513-xxxx

Average Expected Annual Number of activities: 10.

Respondents: 10,000.

Annual responses: 10,000.

Frequency of Response: Once per request.

Average minutes per response: 60.

Burden hours: 10,000.

Bureau of Public Debt: 1535-xxxx

Average Expected Annual Number of activities: 10.

Respondents: 10,000.

Annual responses: 10,000.

Frequency of Response: Once per request.

Average minutes per response: 60.

Burden hours: 10,000.

Internal Revenue Service: 1545-xxxx

Average Expected Annual Number of activities: 20.

Respondents: 20,000.

Annual responses: 20,000.

Frequency of Response: Once per request.

Average minutes per response: 60.

Burden hours: 20,000.

Departmental Clearance Officer: Robert Dahl, OCIO, 1750 Pennsylvania Ave., NW., Ste. 11020, Washington, DC 20220; (202) 622-3119.

OMB Reviewer: Shagufta Ahmed, Office of Management and Budget, New Executive Office Building, Room 10235, Washington, DC 20503; (202) 395-7873.

Robert Dahl,
Treasury PRA Clearance Officer.

[FR Doc. 2011-5351 Filed 3-8-11; 8:45 am]

BILLING CODE 4810-25-P